DEPARTMENT OF COMMERCE

International Trade Administration

[A-560-823, A-570-958]

Coated Paper Suitable for High-Quality Print Graphics Using Sheet-Fed Presses From Indonesia and the People's Republic of China: Final Results of the Second Expedited Sunset Reviews of the Antidumping Duty Orders

AGENCY: Enforcement and Compliance, International Trade Administration, Department of Commerce.

SUMMARY: As a result of these second expedited sunset reviews, the Department of Commerce (Commerce) finds that revoking the antidumping duty (AD) orders on coated paper suitable for high-quality print graphics using sheet-fed presses (certain coated paper) from Indonesia and the People's Republic of China (China) would likely lead to continuation or recurrence of dumping at the levels indicated in the “Final Results of Second Sunset Reviews” section of this notice.

DATES: Applicable April 5, 2022.

FOR FURTHER INFORMATION CONTACT: Benjamin A. Smith, AD/CVD Operations, Office III, Enforcement and Compliance, International Trade Administration, U.S. Department of Commerce, 1401 Constitution Avenue NW, Washington, DC 20230; telephone: (202) 482-2181.

SUPPLEMENTARY INFORMATION:

Background

The first and previous sunset reviews of the Orders ¹ were initiated on October 1, 2015.² In the final results of the first expedited review, Commerce determined that revocation of the Orders would likely lead to the continuation or recurrence of dumping.³

¹ See Certain Coated Paper Suitable for High-Quality Graphics Using Sheet-Fed Presses from Indonesia: Antidumping Duty Order, 75 FR 70205 (November 17, 2010); and Certain Coated Paper Suitable for High-Quality Graphics Using Sheet-Fed Presses from the People's Republic of China: Amended Final Determination of Sales at Less Than Fair Value and Antidumping Order, 75 FR 70203 (November 17, 2010) (collectively, Orders).

² See Initiation of Five-Year (“Sunset”) Reviews, 80 FR 59133 (October 1, 2015).

³ See Certain Coated Paper Suitable for High-Quality Print Graphics Using Sheet-Fed Presses from Indonesia and the People's Republic of China: Final Results of Expedited First Sunset Reviews of the Antidumping Duty Orders, 81 FR 907 (January 8, 2016).

On December 1, 2021, Commerce published the notice of initiation of the second expedited sunset reviews of the Orders, pursuant to section 751(c) of the Tariff Act of 1930, as amended (the Act).⁴ Commerce received a notice of intent to participate from Verso Corporation; Sappi North America, Inc.; and United Steel, Paper and Forestry, Rubber, Manufacturing, Energy, Allied Industrial and Service Workers International Union, AFL-CIO, CLC (collectively, domestic interested parties), within the deadline specified in 19 CFR 351.218(d)(1)(i).⁵ The domestic interested parties claimed interested party status under section 771(9)(C) of the Act, as domestic producers engaged in the production of certain coated paper in the United States.

⁴ See Initiation of Five-Year (Sunset) Reviews, 86 FR 68220 (December 1, 2021).

⁵ See Domestic Interested Parties' Letters, “Five-Year (`Sunset') Review Of Antidumping Duty Order On Coated Paper Suitable for High-Quality Print Graphics Using Sheet-Fed Presses from the People's Republic Of China: Notice of Intent to Participate in Sunset Review,” dated December 10, 2021; and “Five-Year (`Sunset') Review Of Antidumping Duty Order On Coated Paper Suitable for High-Quality Print Graphics Using Sheet-Fed Presses from Indonesia: Notice of Intent to Participate in Sunset Review,” dated December 15, 2021.

Commerce received a substantive response from the domestic interested parties within the 30-day deadline specified in 19 CFR 351.218(d)(3)(i).⁶ We received no substantive response from any other interested parties in this proceeding and no hearing was requested. As a result, pursuant to section 751(c)(3)(B) of the Act and 19 CFR 351.218(e)(1)(ii)(C)(2), Commerce conducted expedited (120-day) sunset reviews of the Orders.

⁶ See Domestic Interested Parties' Letters, “Second Five-Year (`Sunset') Review Of Antidumping Duty Order On Coated Paper Suitable for High-Quality Print Graphics Using Sheet-Fed Presses from the People's Republic Of China: Substantive Response to Notice of Initiation,” dated January 3, 2022; and “Second Five-Year (`Sunset') Review Of the Antidumping Order On Certain Coated Paper Suitable for High-Quality Print Graphics Using Sheet-Fed Presses from Indonesia: Substantive Response to Notice of Initiation,” dated January 3, 2022.

Scope of the Orders

The scope of the Orders covers certain coated paper and paperboard ⁷ in sheets suitable for high quality print graphics using sheet-fed presses; coated on one or both sides with kaolin (China or other clay), calcium carbonate, titanium dioxide, and/or other inorganic substances; with or without a binder; having a GE brightness level of 80 or higher,⁸ weighing not more than 340 grams per square meter; whether gloss grade, satin grade, matte grade, dull grade, or any other grade of finish; whether or not surface-colored, surface-decorated, printed (except as described below), embossed, or perforated; and irrespective of dimensions (certain coated paper).

⁷ “Paperboard” refers to certain coated paper that is heavier, thicker and more rigid than coated paper which otherwise meets the product description. In the context of certain coated paper, paperboard typically is referred to as “cover,” to distinguish it from “text.”

⁸ One of the key measurements of any grade of paper is brightness. Generally speaking, the brighter the paper the better the contrast between the paper and the ink. Brightness is measured using a GE Reflectance Scale, which measures the reflection of light off of a grade of paper. One is the lowest reflection, or what would be given to a totally black grade, and 100 is the brightest measured grade.

Certain coated paper includes (a) coated free sheet paper and paperboard that meets this scope definition; (b) coated groundwood paper and paperboard produced from bleached chemi-thermo-mechanical pulp (BCTMP) that meets this scope definition; and (c) any other coated paper and paperboard that meets this scope definition.

Certain coated paper is typically (but not exclusively) used for printing multi-colored graphics for catalogues, books, magazines, envelopes, labels and wraps, greeting cards, and other commercial printing applications requiring high quality print graphics.

Specifically excluded from the scope are imports of paper and paperboard printed with final content printed text or graphics.

Imports of the subject merchandise are provided for under the following categories of the Harmonized Tariff Schedule of the United States (HTSUS): 4810.14.11, 4810.14.1900, 4810.14.2010, 4810.14.2090, 4810.14.5000, 4810.14.6000, 4810.14.70, 4810.19.1100, 4810.19.1900, 4810.19.2010, 4810.19.2090, 4810.22.1000, 4810.22.50, 4810.22.6000, 4810.22.70, 4810.29.1000, 4810.29.5000, 4810.29.6000, 4810.29.70, 4810.32, 4810.39 and 4810.92. While HTSUS subheadings are provided for convenience and customs purposes, the written description of the scope of the Orders is dispositive.

Analysis of Comments Received

All issues raised in these sunset reviews are addressed in the Issues and Decision Memorandum, which is hereby adopted by this notice.⁹ The Issues and Decision Memorandum is a public document and is on file electronically via the Enforcement and Compliance's Antidumping and Countervailing Duty Centralized Electronic Service System (ACCESS). ACCESS is available to registered users at https://access.trade.gov. A list of topics discussed in the Issues and Decision Memorandum is included as an appendix to this notice. In addition, a complete version of the Issues and Decision Memorandum can be accessed directly at https://access.trade.gov/public/FRNoticesListLayout.aspx.

⁹ See Memorandum, “Issues and Decision Memorandum for the Second Expedited Sunset Review of the Antidumping Duty Orders on Certain Coated Paper Suitable for High-Quality Print Graphics Using Sheet-Fed Presses from Indonesia and the People's Republic of China,” dated concurrently with, and hereby adopted by, this notice.

Final Results of Second Sunset Reviews

Pursuant to sections 751(c)(1) and 752(b) of the Act, Commerce determines that revocation of the Orders would be likely to lead to continuation or recurrence of dumping up to the following weighted-average dumping margins:

Country | Weighted-average margin (percent)
Indonesia | 20.13
People's Republic of China | 135.84

Administrative Protective Order (APO)

This notice also serves as the only reminder to parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing the final results and this notice in accordance with sections 751(c), 752(b), and 777(i)(1) of the Act, 19 CFR 351.218, and 19 CFR 351.221(c)(5)(ii).

Dated: March 30, 2022.
Lisa W. Wang,
Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins Likely to Prevail

VII. Final Results of Second Sunset Reviews

VIII. Recommendation

[FR Doc. 2022-07139 Filed 4-4-22; 8:45 am]

BILLING CODE 3510-DS-P